NATIONAL SCIENCE FOUNDATION

Notice of Intent To Seek Approval To Renew an Information Collection

AGENCY: National Science Foundation.

ACTION: Notice and request for comments.

SUMMARY: The National Science Foundation (NSF) is announcing plans to renew clearance of this collection. In accordance with the requirements of the Paperwork Reduction Act of 1995, we are providing opportunity for public comment on this action. After obtaining and considering public comment, NSF will prepare the submission requesting OMB clearance of this collection for no longer than 3 years.

DATES: Written comments should be received by May 23, 2022 to be assured of consideration. Comments received after that date will be considered to the extent practicable.

ADDRESSES: Written comments regarding the information collection and requests for copies of the proposed information collection request should be addressed to Suzanne Plimpton, Reports Clearance Officer, National Science Foundation, 2415 Eisenhower Avenue, Suite 18000W, Alexandria, VA 22314, or by email to splimpto@nsf.gov.

FOR FURTHER INFORMATION CONTACT: Suzanne Plimpton on (703) 292-7556 or send email to splimpto@nsf.gov. Individuals who use a telecommunications device for the deaf (TDD) may call the Federal Information Relay Service (FIRS) at 1-800-877-8339, which is accessible 24 hours a day, 7 days a week, 365 days a year (including federal holidays).

SUPPLEMENTARY INFORMATION: Comments: Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

Title of Collection: “Postdoctoral Research Fellowships in Biology Application Form A and Reference Writer Recommendation.”

OMB Approval Number: 3145-0203.

Expiration Date of Approval: September 30, 2022.

Type of Request: Intent to seek approval to renew an information collection for three years.

Proposed Project: Two organizational units within the Directorate of Biological Sciences of the National Science Foundation will use the NSF Application Form A and recommendation form for the Postdoctoral Research Fellowships in Biology Program (https://beta.nsf.gov/funding/opportunities/postdoctoral-research-fellowships-biology-prfb). They are the Division of Biological Infrastructure (DBI) and the Division of Integrative Organismal Systems (IOS). All scientists submitting the NSF Application Forms and recommendation forms to these units will be asked to complete an electronic version of the forms. The NSF Application Form A consists of brief questions about the investigator and the substance of the research. The recommendation form consists of brief questions about the reference writer and the uploading of a recommendation letter drafted by the reference writer.

Use of the Information: The information gathered with the NSF Application Form A and recommendation form serves three main purposes. The first is to provide vehicles for applicants to submit applications and reference writers to submit recommendations.

The second is facilitation of the proposal review process. Since peer review is a key component of NSF's grant-making process, it is imperative that proposals are reviewed by scientists with appropriate expertise. The information collected helps ensure that the proposals are evaluated by specialists who are well versed in appropriate subject matter. This helps maintain a fair and equitable review process.

The third use of the information is program evaluation. The Directorate is committed to investing in a range of substantive areas. With data from this collection, the Directorate can calculate submission rates and funding rates in specific areas of research. Similarly, the information can be used to identify emerging areas of research, evaluate changing infrastructure needs in the research community, and track the amount of international research. As the National Science Foundation is committed to funding cutting-edge science, these factors all have implications for program management.

The Directorate of Biological Sciences has a continuing commitment to monitor its information collection in order to preserve its applicability and necessity. Through periodic updates and revisions, the Directorate ensures that only useful, non-redundant information is collected. These efforts will reduce excessive reporting burdens.

Burden on the Public: The Directorate estimates that an average of 25 minutes is expended for each application submitted and an average of 170 minutes is expended for reference writer recommendation added. An estimated 930 responses are expected during the course of one year for a total of 542 public burden hours annually.

Expected Respondents: Individuals.

Estimated Number of Responses: 930.

Estimated Number of Respondents: 930.

Estimated Total Annual Burden on Respondents: 1886 hours.

Frequency of Responses: On occasion.

Dated: March 18, 2022.
Suzanne H. Plimpton,
Reports Clearance Officer, National Science Foundation.

[FR Doc. 2022-06175 Filed 3-23-22; 8:45 am]

BILLING CODE 7555-01-P